DEPARTMENT OF EDUCATION

34 CFR Part 606

Developing Hispanic-Serving Institutions Program

AGENCY: Office of Postsecondary Education, Department of Education.

ACTION: Final regulations.

SUMMARY: When we published final regulations for the Developing Hispanic-Serving Institutions (HSI) Program in the Federal Register of December 15, 1999, it appears that one of the regulatory provisions, dealing with the eligibility of branch campuses to receive grants, could be viewed in a manner that would result in an unintended change of policy. To rectify this problem, we are revising that regulation to more clearly reflect our long standing policy that a branch campus is eligible to apply for an HSI grant if the branch campus serves the appropriate number of Hispanic students even if the main campus does not.

DATES: These regulations are effective February 7, 2001.

FOR FURTHER INFORMATION CONTACT: Sophia McArdle, U.S. Departmnet of Education, 1990 K Street, NW., Room 6061, Washington, DC 20006-8512. Telephone: (202) 219-7078. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Background

The Higher Education Amendments of 1992, Pub. Law 102-325, amended the Higher Education Act of 1965, as amended (HEA), by adding the Developing Hispanic Serving-Institutions (HSI) Program as an authorized program under Title III, Part A of the HEA. The HSI Program was authorized in section 316 of Title III of the HEA.

Under section 316, in general, an HSI institution was an institution that satisfied the statutory definition of an “eligible institution” contained in section 312 of the HEA, and had at least 25 percent of its enrollment consist of Hispanic students. An eligible institution under section 312 of the HEA basically satisfied four conditions. Two of the conditions related to accreditation and licensure. The other two required the institution to have a high percentage of low income students and low education and general (E&G) expenditures.

Under section 312, a branch campus of an eligible institution also qualified as an eligible institution if its main campus satisfied all four conditions and it, on its own, satisfied the last two.

Regulations that we promulgated to implement these institutional eligibility requirements were codified in 34 CFR 607.2(b) and (d). The regulations did not specifically address whether the main campus of a branch campus that applied for an HSI Program grant had to satisfy the Hispanic student enrollment requirement. However, it was the Department's policy that a main campus did not have to qualify as an eligible HSI institution in terms of student enrollment if the branch campus is qualified.

In the Higher Education Amendments of 1998, Public Law 105-244, the Congress moved the HSI Program into Title V of the HEA and reenacted, in that title, all the relevant provisions that governed that program while it was part of Title III of the HEA. To accommodate that statutory change, we codified all the HSI Program requirements in a new part, 34 CFR Part 606. The recodification was technical in nature and did not involve any change in policy. Therefore, when we published Part 606 in the Federal Register on December 15, 1999, we waived rulemaking. However, it has recently come to our attention that one of the recodified regulatory provisions has been read by some as though it, in fact, made a change in policy. That provision was § 606.2(b), relating to the eligibility of a branch campus to qualify as an eligible HSI institution.

As presently written, it could be viewed that in order for a branch campus to qualify as an eligible HSI institution, it and its main campus must have an enrollment of at least 25 percent Hispanic students. As described above, however, such a reading would be inconsistent with the Department's policy that the main campus does not have to satisfy that requirement along with the branch campus. Therefore, we are revising § 602.2(b) to more clearly reflect the Department's long-standing policy.

Waiver of Proposed Rulemaking

Under the Administrative Procedure Act (5 U.S.C. 553), the Department generally offers interested parties the opportunity to comment on proposed regulations. However, these regulations merely clarify statutory changes and do not establish or effect substantive policy. Therefore, under 5 U.S.C. 553(b)(8), the Secretary has determined that proposed regulations are unnecessary and contrary to public interest.

Regulatory Flexibility Act Certification

The Secretary certifies that these regulations would not have a significant economic impact on a substantial number of small entities.

The small entities that would be affected by these regulations are small institutions of higher education (IHEs) receiving Federal funds under this program. However, the regulations would not have a significant economic impact on the small IHEs affected because the regulations would not impose excessive regulatory burdens or require unnecessary Federal supervision. The regulations would impose minimal requirements to ensure the proper expenditure of program funds.

Paperwork Reduction Act of 1995

These final regulations do not contain any information collection requirements.

Electronic Access to this Document

You may view this document, as well as all other Department of Education documents published in the Federal Register, in text or Adobe Portable Document Format (PDF) on the Internet at either of the following sites:

http://ocfo.ed.gov/fedreg.htm

http://www.ed.gov/news.html

To use PDF, you must have Adobe Acrobat Reader which is available free at either of the previous sites. If you have questions about using PDF, call the U.S. Government Printing Office (GPO), toll free, at 1-888-293-6498; or in the Washington, DC area at (202) 512-1530.

Note: The official version of this document is the document published in the Federal Register. Free internet access to the official edition of the Federal Register and the Code of Federal Regulations is available on GPO Access at:

http://www.access.gpo.gov/nara/index.html

(Catalog of Federal Domestic Assistance Numbers: 84.031S, 84.031A, and 84.031B)

List of Subjects in 34 CFR Part 606

Colleges and universities, Grant programs-education, Reporting and recordkeeping requirements.

Dated: December 29, 2000.
A. Lee Fritschler
Assistant Secretary, Office of Postsecondary Education.

For the reasons discussed in the preamble, the Secretary amends Title 34 of the Code of Federal Regulations by amending part 606 as follows:

PART 606—DEVELOPING HISPANIC-SERVING INSTITUTIONS PROGRAM

1. The authority citation for part 606 continues to read as follows:

Authority: 20 U.S.C. 1101 et seq., unless otherwise noted.

2. Section 606.2 is amended by revising paragraph (b) to read as follows:

§ 606.2 What institutions are eligible to receive a grant under the Developing Hispanic-Serving Institutions Program?

* * * * *

(b) A branch campus of a Hispanic-Serving institution is eligible to receive a grant under this part if—

(1) The institution as a whole meets the requirements of paragraphs (a)(3) through (a)(6) of this section; and (2)

The branch campus satisfies the requirements of paragraphs (a)(1) through (a)(4) of this section.

* * * * *

[FR Doc. 01-430 Filed 1-5-01; 8:45 am]

BILLING CODE 4000-01-U